DEPARTMENT OF ENERGY

Federal Energy Regulatory Commission

[Project No. 6764-036]

BMB Enterprises, Inc.; Notice of Availability of Environmental Assessment

In accordance with the National Environmental Policy Act of 1969 and the Federal Energy Regulatory Commission's (Commission or FERC) regulations, 18 CFR part 380, Commission staff has reviewed the application for amendment of license for the partially constructed but not operating Sixmile Creek Project (FERC No. 6764) and has prepared an environmental assessment (EA). The project is located on the Sixmile Creek in Sanpete County, Utah. The project would occupy 10.86 acres of federal lands administered by the U.S. Department of Agriculture, Forest Service.

The EA contains the Commission staff's analysis of the potential environmental effects of the proposed addition of new generating capacity and concludes that authorizing the amendment, with appropriate environmental protective measures, would not constitute a major federal action that would significantly affect the quality of the human environment.

A copy of the EA is available for review at the Commission in the Public Reference Room 2-A of the Commission's offices at 888 First Street NE., Washington, DC 20426. The EA also may be viewed on the Commission's Internet Web site at http://www.ferc.gov using the “eLibrary” link. Enter the docket number excluding the last three digits in the docket number field to access the document. For assistance with eLibrary, contact FERC Online Support at FERCOnlineSupport@ferc.gov or toll-free at (866) 208-3676, or for TTY contact (202) 502-8695.

Any comments should be filed within 60 days from the date of this notice. Comments may be filed electronically via the Internet. See 18 CFR 385.200(a)(1)(iii) and instructions on the Commission's Web site at http://ferc.gov.docs/efiling.asp. Commenters can submit brief comments up to 6,000 characters, without prior registration, using the eComment system at http://www.ferc.gov/docsfiling/ecomment.asp. You must include your name and contact information at the end of your comments. For assistance, please contact FERC Online Support. Although the Commission strongly encourages electronic filings, documents may also be paper-filed. To paper-file, mail an original and seven copies to: Kimberly D. Bose, Secretary, Federal Energy Regulatory Commission, 888 First Street NE., Washington, DC 20426.

Dated: February 7, 2013.
Kimberly D. Bose,
Secretary.

[FR Doc. 2013-03367 Filed 2-13-13; 8:45 am]

BILLING CODE 6717-01-P